DEPARTMENT OF ENERGY

Federal Energy Regulatory Commission

Combined Notice of Filings

Take notice that the Commission has received the following Natural Gas Pipeline Rate and Refund Report filings:

Filings Instituting Proceedings

Docket Numbers: RP23-82-000.

Applicants: MountainWest Pipeline, LLC.

Description: § 4(d) Rate Filing: 2022 Cleanup Filing to be effective 12/1/2022.

Filed Date: 10/27/22.

Accession Number: 20221027-5129.

Comment Date: 5 p.m. ET 11/8/22.

Docket Numbers: RP23-83-000.

Applicants: MountainWest Overthrust Pipeline, LLC.

Description: § 4(d) Rate Filing: Cleanup Filing 2022 to be effective 12/1/2022.

Filed Date: 10/27/22.

Accession Number: 20221027-5130.

Comment Date: 5 p.m. ET 11/8/22.

Docket Numbers: RP23-84-000.

Applicants: ETC Tiger Pipeline, LLC.

Description: § 4(d) Rate Filing: Fuel Filing on 10-28-22 to be effective 12/1/2022.

Filed Date: 10/28/22.

Accession Number: 20221028-5034.

Comment Date: 5 p.m. ET 11/9/22.

Docket Numbers: RP23-85-000.

Applicants: Fayetteville Express Pipeline LLC.

Description: Compliance filing: Fuel Filing on 10-28-22 to be effective N/A.

Filed Date: 10/28/22.

Accession Number: 20221028-5036.

Comment Date: 5 p.m. ET 11/9/22.

Docket Numbers: RP23-86-000.

Applicants: Trunkline Gas Company, LLC.

Description: Compliance filing: Annual Interruptible Storage Revenue Credit filed 10-28-22 to be effective N/A.

Filed Date: 10/28/22.

Accession Number: 20221028-5037.

Comment Date: 5 p.m. ET 11/9/22.

Docket Numbers: RP23-87-000.

Applicants: Transcontinental Gas Pipe Line Company, LLC.

Description: § 4(d) Rate Filing: Rate Schedule GSS LSS SS-2 Tracker Filing Effective 11/1/2022 to be effective 11/1/2022.

Filed Date: 10/28/22.

Accession Number: 20221028-5046.

Comment Date: 5 p.m. ET 11/9/22.

Docket Numbers: RP23-88-000.

Applicants: Ruby Pipeline, L.L.C.

Description: § 4(d) Rate Filing: FLU and EPC Recalculation Update Filing to be effective 12/1/2022.

Filed Date: 10/28/22.

Accession Number: 20221028-5076.

Comment Date: 5 p.m. ET 11/9/22.

Docket Numbers: RP23-89-000.

Applicants: El Paso Natural Gas Company, L.L.C.

Description: § 4(d) Rate Filing: Negotiated Rate Amendment (Hartree) to be effective 12/1/2022.

Filed Date: 10/28/22.

Accession Number: 20221028-5078.

Comment Date: 5 p.m. ET 11/9/22.

Docket Numbers: RP23-90-000.

Applicants: Wyoming Interstate Company, L.L.C.

Description: § 4(d) Rate Filing: Fuel_LU Quarterly Update Filing Dec. 1, 2022 to be effective 12/1/2022.

Filed Date: 10/28/22.

Accession Number: 20221028-5091.

Comment Date: 5 p.m. ET 11/9/22.

Docket Numbers: RP23-91-000.

Applicants: El Paso Natural Gas Company, L.L.C.

Description: § 4(d) Rate Filing: Negotiated Rate Agmt Update (Conoco—Nov 22) to be effective 11/1/2022.

Filed Date: 10/28/22.

Accession Number: 20221028-5114.

Comment Date: 5 p.m. ET 11/9/22.

Docket Numbers: RP23-93-000.

Applicants: Midwestern Gas Transmission Company.

Description: Compliance filing: 2021—2022 Cash Out Report to be effective N/A.

Filed Date: 10/28/22.

Accession Number: 20221028-5126.

Comment Date: 5 p.m. ET 11/9/22.

Docket Numbers: RP23-94-000.

Applicants: Midwestern Gas Transmission Company.

Description: Compliance filing: 2021—2022 Gas Sales and Purchase Report to be effective N/A.

Filed Date: 10/28/22.

Accession Number: 20221028-5131.

Comment Date: 5 p.m. ET 11/9/22.

Docket Numbers: RP23-95-000.

Applicants: OkTex Pipeline Company, L.L.C.

Description: Compliance filing: 2021—2022 Gas Sales and Purchase Report to be effective N/A.

Filed Date: 10/28/22.

Accession Number: 20221028-5135.

Comment Date: 5 p.m. ET 11/9/22.

Docket Numbers: RP23-96-000.

Applicants: Viking Gas Transmission Company.

Description: Compliance filing: 2021-2022 Gas Sales and Purchases Report to be effective N/A.

Filed Date: 10/28/22.

Accession Number: 20221028-5137.

Comment Date: 5 p.m. ET 11/9/22.

Docket Numbers: RP23-97-000.

Applicants: Guardian Pipeline, L.L.C.

Description: Compliance filing: 2021-2022 Gas Sales and Purchases Report to be effective N/A.

Filed Date: 10/28/22.

Accession Number: 20221028-5144.

Comment Date: 5 p.m. ET 11/9/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 28, 2022.
Debbie-Anne A. Reese,
Deputy Secretary.

[FR Doc. 2022-23935 Filed 11-2-22; 8:45 am]

BILLING CODE 6717-01-P